DEPARTMENT OF ENERGY

Federal Energy Regulatory Commission

[Docket No. RP11-1566-000]

Tennessee Gas Pipeline Company; Notice of Technical Conference

January 12, 2011.

On November 30, 2010, pursuant to section 4 of the Natural Gas Act (NGA), Tennessee Gas Pipeline Company (Tennessee) filed revised tariff records proposing a rate increase for existing services and changes to certain terms and conditions of service, including elimination of certain rate schedules. On December 29, 2010 the Commission accepted and suspended the primary tariff records proposed to be effective June 1, 2011, subject to refund and to the outcome of a hearing and technical conference. Tennessee Gas Pipeline Company, 133 FERC ¶ 61,266 (2010).

Take notice that a technical conference to discuss non-rate issues raised by Tennessee's filing will be held on Wednesday, February 2, 2011 at 10 a.m. (EST) and Thursday, February 3, 2011 at 10 a.m. (EST), in a room to be designated at the offices of the Federal Energy Regulatory Commission, 888 First Street, NE., Washington, DC 20426.

Federal Energy Regulatory Commission conferences are accessible under section 508 of the Rehabilitation Act of 1973. For accessibility accommodations please send an e-mail to accessibility@ferc.gov or call toll free 1-866-208-3372 (voice) or 202-208-1659 (TTY), or send a FAX to 202-208-2106 with the required accommodations.

All parties and staff are permitted to attend. For further information please contact Robert D. McLean, (202) 502-8156.

Nathaniel J. Davis, Sr.,
Deputy Secretary.

[FR Doc. 2011-1102 Filed 1-19-11; 8:45 am]

BILLING CODE 6717-01-P